DEPARTMENT OF HEALTH AND HUMAN SERVICES

Centers for Disease Control and Prevention

Disease, Disability, and Injury Prevention and Control Special Emphasis Panel (SEP): Longitudinal Epidemiologic Study To Gain Insight Into HIV and AIDS in Children and Youth (LEGACY), Contract Solicitation Number 2004-N-01211

In accordance with section 10(a)(2) of the Federal Advisory Committee Act (Pub. L. 92-463), the Centers for Disease Control and Prevention (CDC) announces the following meeting:

Name: Disease, Disability, and Injury Prevention and Control Special Emphasis Panel (SEP): Longitudinal Epidemiologic Study to Gain Insight into HIV and AIDS in Children and Youth (LEGACY), Contract Solicitation Number 2004-N-01211.

Times and Dates: 8:30 a.m.-9:15 a.m., July 27, 2004 (Open), 9:15 a.m.-2:15 p.m., July 27, 2004 (Closed).

Place: The Westin Buckhead Atlanta, 3391 Peachtree Road, NE., Atlanta, GA 30326, Telephone Number (404) 365-0065.

Status: Portions of the meeting will be closed to the public in accordance with provisions set forth in section 552b(c) (4) and (6), Title 5 U.S.C., and the Determination of the Director, Management Analysis and Services Office, CDC, pursuant to Public Law 92-463.

Matters to be Discussed: The meeting will include the review, discussion, and evaluation of applications received in response to Special Emphasis Panel (SEP): Longitudinal Epidemiologic Study to Gain Insight into HIV and AIDS in Children and Youth (LEGACY), Contract Solicitation Number 2004-N-01211.

Contact Person for More Information: Noreen L. Qualls, DrPH, Scientific Review Administrator, Centers for Disease Control, National Center for HIV, STD, Office of the Associate Director for Science, 1600 Clifton Road NE., Mailstop E07, Atlanta, GA 30333, Telephone (404) 639-8006.

The Director, Management Analysis and Services Office, has been delegated the authority to sign Federal Register notices pertaining to announcements of meetings and other committee management activities, for both CDC and the Agency for Toxic Substances and Disease Registry.

Dated: June 29, 2004.
Alvin Hall,
Director, Management Analysis and Services Office, Centers for Disease Control and Prevention (CDC).

[FR Doc. 04-15503 Filed 7-7-04; 8:45 am]

BILLING CODE 4163-18-P